DEPARTMENT OF COMMERCE

International Trade Administration

[A-533-824]

Polyethylene Terephthalate Film, Sheet, and Strip From India: Final Results of Administrative Review of the Antidumping Duty Order; 2010-2011

AGENCY: Import Administration, International Trade Administration, Department of Commerce.

SUMMARY: On August 6, 2012, the Department of Commerce (Department) published the preliminary results of administrative review of the antidumping duty order on polyethylene terephthalate film (PET Film) from India.¹ This review covers three respondents, Jindal Poly Films Ltd (Jindal), Polyplex Corporation Ltd. (Polyplex), and SRF Limited (SRF), producers and exporters of PET Film from India. Based on the results of our analysis of the comments received, we have made changes to the preliminary results. For the final weight-averaged dumping margins, see the “Final Results of Review” section below.

¹ See Polyethylene Terephthalate Film, Sheet, and Strip From India: Preliminary Results of Antidumping Duty Administrative Review, 77 FR 46687 (August 6, 2012) (Preliminary Results).

DATES: Effective Date: February 11, 2013.

FOR FURTHER INFORMATION CONTACT: Elfi Blum or Toni Page, AD/CVD Operations, Office 6, Import Administration, International Trade Administration, U.S. Department of Commerce, 14th Street and Constitution Avenue NW., Washington, DC 20230; telephone: (202) 428-0197 or (202) 482-1398, respectively.

SUPPLEMENTARY INFORMATION:

Background

Since the Preliminary Results, the following events have taken place. The Department extended the final results of review from December 6, 2012 to February 4, 2013.² Jindal and Polyplex submitted timely case briefs on December 5, 2012. DuPont Teijin Films, Mitsubishi Polyester Film, Inc., SKC, Inc., and Toray Plastics (America), Inc. (collectively, Petitioners) filed a timely rebuttal brief on December 13, 2012.

² See Memorandum from Barbara Tillman, Antidumping and Countervailing Duty Operations Office 6 Director, to Christian Marsh, Deputy Assistant Secretary for Antidumping and Countervailing Duty Operations, “Polyethylene Terephthalate Film from India: Extension of Deadline for Final Results of Antidumping Duty Administrative Review,” dated November 9, 2012. See also Memorandum to the Record from Paul Piquado, Assistant Secretary for Import Administration, regarding “Tolling of Administrative Deadlines As a Result of the Government Closure During Hurricane Sandy,” dated October 31, 2012.

The Department issued a post-preliminary analysis to address Petitioners' targeted dumping allegations for both Jindal and Polyplex on December 20, 2012.³ Petitioners filed timely comments regarding the Department's post-preliminary analysis on January 3, 2013. In response, Jindal and Polyplex filed timely rebuttal comments on January 8, 2013.

³ See Memorandum from Christian Marsh, Deputy Assistant Secretary for Antidumping and Countervailing Duty Operations, to Paul Piquado, Assistant Secretary for Import Administration,: Polyethylene Terephthalate Film, Sheet and Strip (PET film) from India: Post-Preliminary Analysis and Calculation Memorandum, dated December 20, 2012 (Post-Prelim Analysis and Calculation Memorandum).

Scope of the Order

The products covered by the antidumping duty order are all gauges of raw, pretreated, or primed PET film, whether extruded or coextruded. Excluded are metallized films and other finished films that have had at least one of their surfaces modified by the application of a performance-enhancing resinous or inorganic layer of more than 0.00001 inches thick. Imports of PET film are currently classifiable in the Harmonized Tariff Schedule of the United States (HTSUS) under item number 3920.62.00.90. HTSUS subheadings are provided for convenience and customs purposes. The written description of the scope of the antidumping duty order is dispositive.

Period of Review

The period of review is July 1, 2010, through June 30, 2011.

Analysis of Comments Received

All issues raised in the case and rebuttal briefs filed by parties are addressed in the Decision Memorandum.⁴ A list of these issues is attached to this notice in the Appendix. The Decision Memorandum is a public document and is on file electronically via Import Administration's Antidumping and Countervailing Duty Centralized Electronic Service System (IA ACCESS). IA ACCESS is available to all registered users at http://iaaccess.trade.gov, and is available to all parties in the Central Records Unit (CRU), room 7046 of the main Department of Commerce building. In addition, a complete version of the Decision Memorandum can be accessed directly on the Internet at http://www.trade.gov/ia/. The signed Decision Memorandum and electronic versions of the Decision Memorandum are identical in content.

⁴ See Memorandum from Christian Marsh, Deputy Assistant Secretary for Antidumping and Countervailing Duty Operations, to Paul Piquado, Assistant Secretary for Import Administration, “Issues and Decision Memorandum for the Final Results of the 2010-2011 Antidumping Duty Administrative Review: Polyethylene Terephthalate Film, Sheet, and Strip from India,” dated February 4, 2013 (Decision Memorandum).

Changes Since the Preliminary Results

Based on our analysis of the comments received and information received after the Preliminary Results, we have made adjustments to our margin calculations for Jindal and Polyplex in accordance with our post-preliminary analysis.⁵ For these final results, we made no other changes to Jindal's margin calculations. Polyplex's margin calculations were adjusted to account for the company's expenditures for its sample sales and its sales of secondary merchandise in the U.S. The adjustments for Polyplex did not change its weighted-average dumping margin calculated for the Preliminary Results.

⁵ For our detailed analysis, see Post-Prelim Analysis and Calculation Memorandum; see also Analysis Memorandum for the Post-Preliminary Results of the Antidumping Duty Administrative Review of Polyethylene Terephthalate Film, Sheet, and Strip from India: Jindal Poly Films Limited and Polyplex Corporation Ltd., dated December 20, 2012, at 2, respectively.

Final Results of Review

As a result of our review, we determine that the following weighted-average dumping margins exist for the period July 1, 2010, through June 30, 2011.

⁶ SRF is a non-selected respondent in this review. For additional information regarding the calculation of SRF's rate, which remains unchanged from the Preliminary Results, see Preliminary Results, 77 FR at 46692.

Manufacturer/ exporter | Weighted- average dumping margin (percent)
Jindal Poly Films Limited | 0.00
Polyplex Corporation Limited | 0.00
SRF Limited ⁶ | 0.00

Assessment Rates

The Department shall determine, and U.S. Customs and Border Protection (CBP) shall assess, antidumping duties on all appropriate entries. We will instruct CBP to liquidate entries of merchandise produced and/or exported by Jindal, Polyplex, and SRF. The Department intends to issue assessment instructions to CBP 15 days after the date of publication of the final results of review. For individually examined respondents whose weighted-average dumping margin is above de minimis (i.e., 0.50 percent) in the final results, we will calculate importer-specific ad valorem duty assessment rates based on the ratio of the total amount of dumping calculated for the importer's examined sales to the total entered value of the sales in accordance with 19 CFR 351.212(b)(1).⁷ We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate without regard to antidumping duties any entries.⁸

⁷ In these final results, the Department applied the assessment rate calculation method adopted in Final Modification for Reviews, i.e. on the basis of monthly average-to-average comparisons using only the transactions associated with that importer with offsets being provided for non-dumped comparisons. See Antidumping Proceedings: Calculation of the Weighted-Average Dumping Margin and Assessment Rate in Certain Antidumping Duty Proceedings; Final Modification, 77 FR 8101 (February 14, 1012) (Final Modificationfor Reviews).

⁸ See 19 CFR 351.106(c)(1).

The Department clarified its “automatic assessment” regulation on May 6, 2003. This clarification will apply to entries of subject merchandise during the period of review produced by each respondent for which they did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective for all shipments of PET Film from India entered, or withdrawn from warehouse, for consumption on or after the date of publication of the final results of this administrative review, as provided for by section 751(a)(2)(C) of the Tariff Act of 1930, as amended (Act): (1) The cash deposit rate for company under review will be the rate established in the final results of this review (except, if the rate is zero or de minimis, then no cash deposit will be required); (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and, (4) if neither the exporter nor the manufacturer is a firm covered in this or any previous review, the cash deposit rate will be the all others rate for this proceeding, 5.71 percent. These deposit requirements, when imposed, shall remain in effect until further notice.

Notification Regarding Administrative Protective Orders

This notice is the only reminder to parties subject to the administrative protective order (APO) of their responsibility concerning the return or destruction of proprietary information disclosed under the APO in accordance with 19 CFR 351.305(a)(3). Timely written notification of the return or destruction of APO materials or conversion to judicial protective order is hereby requested. Failure to comply with the regulations and the terms of an APO is a sanctionable violation.

Notification to Importers

This notice also serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

We are issuing and publishing these final results and this notice in accordance with sections 751(a)(1) and 777(i)(1) of the Act.

Dated: February 4, 2013.
Paul Piquado,
Assistant Secretary for Import Administration.

Appendix

Comment 1: Targeted Dumping

Comment 2: Polyplex's Transparent Film Other Grade (TFOG) Sales

Comment 3: Jindal's Date of Sale

Comment 4: Jindal's Export Quantities

[FR Doc. 2013-03082 Filed 2-8-13; 8:45 am]

BILLING CODE 3510-DS-P